DEPARTMENT OF ENERGY

Federal Energy Regulatory Commission

Notice of Application Accepted for Filing and Soliciting Motions To Intervene and Protests

September 6, 2000.

Take notice that the following hydroelectric application has been filed with the Commission and is available for public inspection:

a. Type of Application: New Major License.

b. Project No.: 2047-004.

c. Date filed: June 23, 1998.

d. Applicant: Erie Boulevard Hydropower, L.P.

e. Name of Project: Stewarts Bridge Hydroelectric Project.

f. Location: On the Sacandaga River, about 3 miles upstream from the confluence with the Hudson River, in the town of Hadley, Saratoga County, New York. The project would not utilize federal funds.

g. Filed Pursuant to: Federal Power Act, 16 U.S.C. 791(a)-825(r).

h. Applicant Contact: Jerry L. Sabattis, Hydro Licensing Coordinator, 225 Greenfield Parkway, Suite 201, Liverpool, New York 13088, (315) 413-2787.

i. FERC Contact: Lee Emery, E-mail address, Lee.Emery@ferc.fed.us, 202-219-2779.

j. Deadline for filing motions to intervene and protest: 60 days from the issuance date of this notice.

All documents (original and eight copies) should be filed with: David P. Boergers, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The project consists of the following existing facilities: (1) a 1,860-foot-long dam consisting of: (a) a 1,646-foot-long rolled, compacted earth-fill structure 112 feet high at its highest point (crest elevation of 714.0 feet) with a base that varies from 120 feet to 680 feet in width; (b) a reinforced concrete Taintor gate spillway measuring 151 feet long, 49.7 feet wide, and 34 feet high, containing five 27-foot-long by 14.5-foot-high steel Taintor gates; (c) a 63-foot-long reinforced concrete intake structure equipped with two 25-foot-high by 22-foot-wide steel gates with 3⅝-inch clear spaced steel bar trashracks located directly in front of the gates; and (d) a 29-foot-wide roadway along the crest of the dam; (2) a reservoir (Stewart's Bridge Reservoir) with a surface area of 480 acres at a normal water surface elevation of 705.0 feet National Geodetic Vertical Datum; (3) a 10-foot-diameter, plugged diversion conduit used to pass river flows during project construction; (4) an 850-foot-long plastic concrete seepage barrier constructed through the impervious dam core; (5) a 216-foot-long, 22-foot inside diameter steel penstock; (6) an 88-foot-long by 78-foot-wide brick-faced structural steel framed powerhouse with one vertical Francis turbine/generator unit; (7) a tailrace which extends 450 feet downstream from the powerhouse; (8) an outdoor transformer, switching station, and 400-foot-long transmission line; and (9) appurtenant facilities. There is no bypassed reach. The project has an installed capacity of 30.0 megawatts and an annual average energy production of 118,678 megawatt hours.

The project currently operates as a peaking facility in tandem with the upstream E.J. West Project (P-2318), generating 12 hours a day (typically between 8:00 AM to 10:00 PM). Daily reservoir fluctuations are less than one foot most of the year except for maintenance drawdowns that approach 15 feet and are timed to coincide with the drawdowns of Great Sacandaga Lake which begin in mid-March.

l. A copy of the application is available for inspection and reproduction at the Commission's Public Reference Room, located at 888 First Street, NE., Room 2A, Washington, DC 20426, or by calling (202) 208-1371. The application may be viewed on http://www.ferc.fed.us/online/rims.htm (call (202) 208-2222 for assistance). A copy is also available for inspection and reproduction at the address in item h above.

Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents—The application is not ready for environmental analysis at this time; therefore, the Commission is not now requesting comments, recommendations, terms and conditions, or prescriptions.

When the application is ready for environmental analysis, the Commission will issue a public notice requesting comments, recommendations, terms and conditions, or prescriptions.

All filings must (1) bear in all capital letters the title “PROTEST” or “MOTION TO INTERVENE;” (2) set forth in the heading the name of the applicant and the project number of the application to which the filing responds; (3) furnish the name, address, and telephone number of the person protesting or intervening; and (4) otherwise comply with the requirements 18 CFR 385.2001 through 385.2005. Agencies may obtain copies of the application directly from the applicant. Any of these documents must be filed by providing the original and the number of copies required by the Commission's regulations to: The Secretary, Federal Energy Regulatory Commission, 888 First Street, NE., Washington, DC 20426. An additional copy must be sent to Director, Division of Environmental and Engineering Review, Office of Energy Projects, Federal Energy Regulatory Commission, at the above address. A copy of any protest or motion to intervene must be served upon each representative of the applicant specified in the particular application.

David P. Boergers,
Secretary.

[FR Doc. 00-23289 Filed 9-11-00; 8:45 am]

BILLING CODE 6717-01-M